NATIONAL SCIENCE FOUNDATION

Advisory Committee for Environmental Research and Education; Notice of Meeting

In accordance with the Federal Advisory Committee Act (Pub. L. 92-463, as amended), the National Science Foundation (NSF) announces the following meeting:

Name and Committee Code: Advisory Committee for Environmental Research and Education (9487).

Date and Time: January 5, 2018; 3:00 p.m. (EST)-5:00 p.m. (EST).

Place: National Science Foundation, 2415 Eisenhower Avenue, Alexandria, VA 22314 (Teleconference).

Type of Meeting: Open.

Contact Person: Dr. Leah Nichols, Staff Associate, Office of Integrative Activities, Office of the Director; National Science Foundation, 2415 Eisenhower Avenue, Alexandria, VA 22314; (Email: lenichol@nsf.gov/Telephone: (703) 292-2983).

Minutes: May be obtained from https://www.nsf.gov/ere/ereweb/minutes.jsp.

Purpose of Meeting: To provide advice, recommendations, and oversight concerning support for environmental research and education.

Agenda: To discuss subcommittee work and prepare for future advisory committee activities. Updated agenda and teleconference link will be available at https://www.nsf.gov/ere/ereweb/minutes.jsp.

Dated: November 27, 2017.
Crystal Robinson,
Committee Management Officer.

[FR Doc. 2017-25851 Filed 11-30-17; 8:45 am]

BILLING CODE 7555-01-P